DEPARTMENT OF ENERGY

Federal Energy Regulatory Commission

Combined Notice of Filings #1

Take notice that the Commission received the following electric corporate filings:

Docket Numbers: EC21-102-000.

Applicants: Harts Mill Solar, LLC, Harts Mill TE Holdings LLC.

Description: Application for Authorization Under Section 203 of the Federal Power Act of Harts Mill Solar, LLC, et al.

Filed Date: 6/23/21.

Accession Number: 20210623-5136.

Comments Due: 5 p.m. ET 7/14/21.

Take notice that the Commission received the following electric rate filings:

Docket Numbers: ER10-2421-006; ER10-2616-020; ER11-2457-006; ER11-4400-001; ER12-75-010; ER12-1769-009; ER12-2250-007; ER12-2251-007; ER12-2252-008; ER12-2253-007; ER14-883-014; ER14-1569-013; ER14-2245-007; ER15-1596-013; ER15-1599-013; ER19-102-006; ER19-158-008; ER19-2803-005; ER19-2806-005; ER19-2807-005; ER19-2809-005; ER19-2810-005; ER19-2811-005; ER20-2414-001; ER21-353-001; ER21-354-001.

Applicants: Energy Services Providers, Inc., Dynegy Marketing and Trade, LLC, Massachusetts Gas & Electric, Inc., Dynegy Power Marketing, LLC, Public Power, LLC, Everyday Energy, LLC, Everyday Energy NJ, LLC, Public Power & Utility of NY, Inc, Public Power (PA), LLC, Public Power & Utility of Maryland, LLC, Illinois Power Marketing Company, Dynegy Energy Services, LLC, TriEagle Energy, LP, Luminant Commercial Asset Management LLC, Dynegy Energy Services (East), LLC, Luminant Energy Company LLC, Ambit Northeast, LLC, Cincinnati Bell Energy LLC, Connecticut Gas & Electric, Inc., Energy Rewards, LLC, Viridian Energy NY, LLC, Viridian Energy PA, LLC, Viridian Energy, LLC, Moss Landing Energy Storage 1, LLC, Oakland Power Company LLC, Moss Landing Power Company LLC.

Description: Notice of Non-Material Change in Status of Energy Services Providers, Inc, et al.

Filed Date: 6/23/21.

Accession Number: 20210623-5156.

Comments Due: 5 p.m. ET 7/14/21.

Docket Numbers: ER10-2434-011; ER10-2436-011; ER10-2467-011; ER17-1666-008.

Applicants: Fenton Power Partners I, LLC.

Description: Triennial Market Power Analysis for Central Region of Fenton Power Partners I, LLC, et al.

Filed Date: 6/23/21.

Accession Number: 20210623-5139.

Comments Due: 5 p.m. ET 8/23//21.

Docket Numbers: ER10-2606-014; ER17-815-003; ER17-816-003.

Applicants: Consolidated Water Power Company, Verso Escanaba LLC, Verso Luke LLC.

Description: Triennial Market Power Analysis for Central Region of Consolidated Water Power Company, et al.

Filed Date: 6/24/21.

Accession Number: 20210624-5051.

Comments Due: 5 p.m. ET 8/23/21.

Docket Numbers: ER21-1525-001.

Applicants: Centerfield Cooper Solar, LLC.

Description: Tariff Amendment: Response to Deficiency Letter in Docket ER21-1525 to be effective 3/27/2021.

Filed Date: 6/23/21.

Accession Number: 20210623-5120.

Comments Due: 5 p.m. ET 7/14/21.

Docket Numbers: ER21-2182-000.

Applicants: Wisconsin Power and Light Company.

Description: Request for Prospective, Limited Waiver, et. al. of Wisconsin Power and Light Company.

Filed Date: 6/22/21.

Accession Number: 20210622-5145.

Comments Due: 5 p.m. ET 7/6/21.

Docket Numbers: ER21-2192-000.

Applicants: Sempra Gas & Power Marketing, LLC.

Description: Application to Recover Fuel Procurement Costs of Sempra Gas & Power Marketing, LLC.

Filed Date: 6/18/21.

Accession Number: 20210618-5140.

Comments Due: 5 p.m. ET 7/9/21.

Docket Numbers: ER21-2193-000.

Applicants: San Diego Gas & Electric Company.

Description: Application to Recover Fuel Costs of San Diego Gas & Electric Company.

Filed Date: 6/23/21.

Accession Number: 20210623-5140.

Comments Due: 5 p.m. ET 7/14/21.

Docket Numbers: ER21-2194-000.

Applicants: Southwest Power Pool, Inc.

Description: § 205(d) Rate Filing: 3127R4 Montana-Dakota Utilities Co. NITSA NOA to be effective 6/1/2021.

Filed Date: 6/24/21.

Accession Number: 20210624-5029.

Comments Due: 5 p.m. ET 7/15/21.

Docket Numbers: ER21-2195-000.

Applicants: NorthWestern Corporation.

Description: Tariff Cancellation: Cancellation of SA 893—Firm PTP TSA with Energy Keepers, Inc. to be effective 9/1/2021.

Filed Date: 6/24/21.

Accession Number: 20210624-5030.

Comments Due: 5 p.m. ET 7/15/21.

Docket Numbers: ER21-2196-000.

Applicants: RE Slate 1 LLC.

Description: § 205(d) Rate Filing: Certificate of Concurrence for Amended and Restated Shared Facilities Agreement to be effective 6/25/2021.

Filed Date: 6/24/21.

Accession Number: 20210624-5038.

Comments Due: 5 p.m. ET 7/15/21.

Docket Numbers: ER21-2197-000.

Applicants: New York Independent System Operator, Inc., Power Authority of the State of New York.

Description: § 205(d) Rate Filing: Joint 205 EPCA among the NYISO, NYPA and NY Transco segment B SA no. 2622 to be effective 6/11/2021.

Filed Date: 6/24/21.

Accession Number: 20210624-5047.

Comments Due: 5 p.m. ET 7/15/21.

Docket Numbers: ER21-2198-000.

Applicants: Avista Corporation.

Description: § 205(d) Rate Filing: Revised Transmission Rates_AVA OATT to be effective 10/1/2021.

Filed Date: 6/24/21.

Accession Number: 20210624-5050.

Comments Due: 5 p.m. ET 7/15/21.

Docket Numbers: ER21-2199-000.

Applicants: PJM Interconnection, L.L.C.

Description: § 205(d) Rate Filing: Amendment to ISA/CSA, Service Agreement Nos. 5861 and 5862; Queue No. AB2-070 to be effective 12/1/2020.

Filed Date: 6/24/21.

Accession Number: 20210624-5059.

Comments Due: 5 p.m. ET 7/15/21.

Docket Numbers: ER21-2200-000.

Applicants: PacifiCorp.

Description: § 205(d) Rate Filing: ESM Const Agmt Elektron Solar 25 YR to be effective 6/25/2021.

Filed Date: 6/24/21.

Accession Number: 20210624-5063.

Comments Due: 5 p.m. ET 7/15/21.

Docket Numbers: ER21-2201-000.

Applicants: Midcontinent Independent System Operator, Inc.

Description: § 205(d) Rate Filing: 2021-06-24_SA 3478 Dairyland Power-Fillmore County Solar 1st Rev GIA (J718) to be effective 6/15/2021.

Filed Date: 6/24/21.

Accession Number: 20210624-5064.

Comments Due: 5 p.m. ET 7/15/21.

Docket Numbers: ER21-2202-000.

Applicants: PJM Interconnection, L.L.C.

Description: § 205(d) Rate Filing: Amendment to ISA, Service Agreement No. 2515; Queue No. U2-090 to be effective 5/5/2010.

Filed Date: 6/24/21.

Accession Number: 20210624-5067.

Comments Due: 5 p.m. ET 7/15/21.

Docket Numbers: ER21-2203-000.

Applicants: PJM Interconnection, L.L.C.

Description: § 205(d) Rate Filing: Tariff Revisions Regarding Interconnection Deficiency Review Requirements to be effective 8/23/2021.

Filed Date: 6/24/21.

Accession Number: 20210624-5068.

Comments Due: 5 p.m. ET 7/15/21.

Docket Numbers: ER21-2204-000.

Applicants: ENGIE Power & Gas LLC.

Description: Compliance filing: Notice of Succession Refiling under ER21-1933 to be effective 5/17/2021.

Filed Date: 6/24/21.

Accession Number: 20210624-5076.

Comments Due: 5 p.m. ET 7/15/21.

Docket Numbers: ER21-2205-000.

Applicants: AEP Texas Inc.

Description: § 205(d) Rate Filing: AEPTX—SP-Peregrine Solar Interconnection Agreement to be effective 6/19/2021.

Filed Date: 6/24/21.

Accession Number: 20210624-5103.

Comments Due: 5 p.m. ET 7/15/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2021.
Debbie-Anne A. Reese,
Deputy Secretary.

[FR Doc. 2021-14133 Filed 7-1-21; 8:45 am]

BILLING CODE 6717-01-P